FEDERAL RESERVE SYSTEM

Change in Bank Control Notices; Formations of, Acquisitions by, and Mergers of Bank Holding Companies; Correction

This notice corrects a notice (FR Doc. 2013-22047) published on pages 55716 and 55717 of the issue for Wednesday, September 11, 2013.

Under the Federal Reserve Bank of New York heading, the entry for Donald J. Vaccaro, Glastenbury, Connecticut, is revised to read as follows:

A. Federal Reserve Bank of New York (Ivan Hurwitz, Vice President) 33 Liberty Street, New York, New York 10045-0001:

1. Donald J. Vaccaro, Glastonbury, Connecticut; to acquire voting shares of Urban Financial Group, Inc., and thereby indirectly acquire voting shares of The Community's Bank, both in Bridgeport, Connecticut.

Comments on this application must be received by September 25, 2013.

Board of Governors of the Federal Reserve System, September 16, 2013.
Margaret McCloskey Shanks,
Deputy Secretary of the Board.

[FR Doc. 2013-22843 Filed 9-19-13; 8:45 am]

BILLING CODE 6210-01-P